DEPARTMENT OF THE INTERIOR

Minerals Management Service

Notice and Agenda for Meeting of the Royalty Policy Committee

AGENCY: Minerals Management Service (MMS), Interior.

ACTION: Notice of meeting.

SUMMARY: Agenda items for the meeting of the Royalty Policy Committee (RPC) will include remarks from the Director, MMS, and the Associate Director, Minerals Revenue Management (MRM), as well as updates from the following subcommittees: Coal, Federal Oil and Gas Valuation, Oil and Gas Royalty Reporting, and Indian Oil Valuation. The RPC will also hear an update on the Royalty In Kind program.

The RPC membership includes representatives from states, Indian tribes, individual Indian mineral owner organizations, minerals industry associations, the general public, and other Federal departments.

DATES: Wednesday, April 26, 2006, from 8:30 a.m. to 4:30 p.m., central time.

ADDRESSES: The meeting will be held at the InterContinental Houston Hotel, 2222 West Loop-South, Houston, Texas, 77027, telephone 713-627-7600 or 1-800-381-9552.

FOR FURTHER INFORMATION CONTACT: Gina Dan, Minerals Revenue Management, Minerals Management Service, P.O. Box 25165, MS 300B2, Denver, Colorado, 80225-0165, telephone number (303) 231-3392, fax number (303) 231-3780, e-mail gina.dan@mms.gov.

SUPPLEMENTARY INFORMATION: The RPC provides advice to the Secretary and top Department officials on minerals policy, operational issues, and the performance of discretionary functions under the laws governing the Department's management of Federal and Indian mineral leases and revenues. The RPC reviews and comments on revenue management and other mineral-related policies and provides a forum to convey views representative of mineral lessees, operators, revenue payors, revenue recipients, governmental agencies, and the interested public. Dates and locations of future meetings will be published in the Federal Register and posted on our Internet site at http://www.mms.gov/mmab/RoyaltyPolicyCommittee/rpc_homepage.htm. Meetings will be open to the public without advanced registration on a space available basis. To the extent time permits, the public may make statements during the meetings, and file written statements with the RPC for its consideration. Copies of these written statements should be submitted to Gina Dan. Transcripts of this meeting will be available 2 weeks after the meeting for public inspection and copying at our offices located in Building 85, Denver Federal Center, West 6th Ave. and Kipling Blvd., Denver, Colorado 80225.

These meetings are conducted under the authority of the Federal Advisory Committee Act (Pub. L. 92-463, 5 U.S.C., Appendix 1) and the Office of Management and Budget (Circular No. A-63, revised).

Dated: February 27, 2006.
Lucy Querques Denett,
Associate Director, Minerals Revenue Management.

[FR Doc. E6-3017 Filed 3-2-06; 8:45 am]

BILLING CODE 4310-MR-P